ENVIRONMENTAL PROTECTION AGENCY

[EPA-HQ-OLEM-2021-0762; FRL-9153-02-OLEM]

Draft EPA Strategy To Reduce Lead Exposures and Disparities in U.S. Communities; Comment Request; Correction

AGENCY: Environmental Protection Agency (EPA).

ACTION: Public notification; correction.

SUMMARY: The Environmental Protection Agency (EPA), published a document in the Federal Register of October 28, 2021, notifying the public about the opportunity to provide comment on its draft Strategy to Reduce Lead Exposures and Disparities in U.S. Communities. Corrections have been made since the publishing for comment.

FOR FURTHER INFORMATION CONTACT: Stiven Foster, Environmental Protection Agency, 1200 Pennsylvania Ave. NW, Washington, DC 20460; telephone number: (202) 566-1911; email address: foster.stiven@epa.gov.

SUPPLEMENTARY INFORMATION:

Correction

In the Federal Register of October 28, 2021, in FR Doc 2021-23421, on page 59711, correct the SUMMARY and DATES sections to read as follows:

SUMMARY: The Environmental Protection Agency (EPA), published a document in the Federal Register of October 28, 2021, notifying the public about the opportunity to provide comment on its draft Strategy to Reduce Lead Exposures and Disparities in U.S. Communities. Corrections have been made since the publishing for comment. The corrected draft Strategy to Reduce Lead Exposures and Disparities in U.S. Communities (Lead Strategy) now includes actions due to the Infrastructure Investment and Jobs Act. The legislation provides opportunity to strengthen and rebuild America's water infrastructure, including replace lead service lines to further reduce lead exposures in communities. The EPA will conduct public listening sessions on the draft Lead Strategy. Details about the listening sessions will be posted at https://www.epa.gov/lead/draft-strategy-reduce-lead-exposures-and-disparities-us-communities, as they become available.

DATES: Comments must be submitted on or before March 16, 2022.

Dated: December 3, 2021.
Carlton Waterhouse,
Deputy Assistant Administrator, Office of Land and Emergency Management.

[FR Doc. 2021-26644 Filed 12-8-21; 8:45 am]

BILLING CODE 6560-50-P